COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products from the Procurement List previously furnished by nonprofit agencies employing persons who are blind or have other severe disabilities.

DATES: Effective Date: 10/14/2013.

ADDRESSES: Committee for Purchase From People Who Are Blind or Severely Disabled, 1401 S. Clark Street, Suite 10800, Arlington, Virginia 22202-4149.

FOR FURTHER INFORMATION CONTACT: Barry S. Lineback, Telephone: (703) 603-7740, Fax: (703) 603-0655, or email CMTEFedReg@AbilityOne.gov.

SUPPLEMENTARY INFORMATION:

Deletions

On 8/2/2013 (78 FR 46927-46928), the Committee for Purchase From People Who Are Blind or Severely Disabled published notice of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 USC 8501-8506) in connection with the products deleted from the Procurement List.

End of Certification

Accordingly, the following products are deleted from the Procurement List:

Products:

Folder, File, Paperboard, Heavy Duty, 1/3 Cut Tab, Clear Sleeve, Kraft

NSN: 7530-00-281-5908—Legal

NSN: 7530-00-281-5968—Letter

NPA: L.C. Industries for the Blind, Inc., Durham, NC

Contracting Activity: General Services Administration, New York, NY

NSN: 7510-01-368-3504—Ink Refill, Stamp, Pre-inked, Blue

NSN: 7510-01-381-8032—Ink Refill, Stamp, Pre-inked, Black

NSN: 7510-01-381-8062—Ink Refill, Stamp, Pre-inked, Red

NSN: 7520-01-419-6746—Stamp, Custom-made, Pre-inked, 1 ⅝″ × 4″

NPA: Industries of the Blind, Inc., Greensboro, NC

Contracting Activities: Department of Veterans Affairs, NAC, Hines, IL, General Services Administration, New York, NY

NSN: 7520-01-453-1967—4 PC Stamps Kit, ‘Route-It Set’

NSN: 7520-01-453-1968—4 PC Stamps Kit, ‘Accountant Set’

NSN: 7520-01-453-1969—4 PC Stamps Kit, ‘Mail Room Set’

NPA: Industries of the Blind, Inc., Greensboro, NC

Contracting Activity: General Services Administration, New York, NY

NSN: 7530-00-238-4319—Card, Index

NPA: Louisiana Association for the Blind, Shreveport, LA

Contracting Activity: General Services Administration, New York, NY

NSN: 7930-01-418-1102—EcoLab Water Soluble Cleaners/Detergents

NPA: Association for the Blind and Visually Impaired—Goodwill Industries of Greater Rochester, Rochester, NY

Contracting Activity: General Services Administration, Fort Worth, TX

Safety-Walk, Tapes & Treads

NSN: 7220-00-NIB-0136—710 Black Coarse Tap

NSN: 7220-00-NIB-0137—610 Black General Purpose

NSN: 7220-00-NIB-0138—620 Clear General Purpose

NSN: 7220-00-NIB-0139—630 Yellow General Purpose

NSN: 7220-00-NIB-0140—660 Brown General Purpose

NSN: 7220-00-NIB-0141—510 Black Conformable

NSN: 7220-00-NIB-0043—620 Clear General Purpose

NSN: 7220-00-NIB-0044—620 Clear General Purpose

NSN: 7220-00-NIB-0045—620 Clear General Purpose

NPA: Louisiana Association for the Blind, Shreveport, LA

Contracting Activity: General Services Administration, New York, NY

Barry S. Lineback,
Director, Business Operations.

[FR Doc. 2013-22291 Filed 9-12-13; 8:45 am]

BILLING CODE 6353-01-P